ENVIRONMENTAL PROTECTION AGENCY

40 CFR Part 52

[TX-105-1-7404; FRL-6935-2]

Approval and Promulgation of Air Quality State Implementation Plans; Texas; Approval of Clean Fuel Fleet Substitution Program Revision

AGENCY: Environmental Protection Agency (EPA).

ACTION: Proposed rule.

SUMMARY: The EPA is proposing to approve the State of Texas' Clean Fuel Fleet (CFF) substitute plan, incorporating them into the State Implementation Plan (SIP) under the Federal Clean Air Act (CAA). The State's CFF Substitute Plan is addressed in the SIP revision submitted on August 27 1998, and supplemented with additional technical information in a letter to the EPA dated November 17, 2000, by the State of Texas for the purpose of establishing a substitute CFF program.

In the Final Rules Section of this Federal Register, EPA is approving this SIP submittal as a direct final rule without prior proposal because we view it as noncontroversial and anticipate no adverse comments. See the direct final rule for detailed rationale for the approval. If EPA receives no adverse comments in response to this action, no further activity is contemplated. If EPA does receive adverse comments, we will withdraw the direct final rule and respond to all public comments received in a subsequent final rule based on this proposed rule. EPA will not institute a second comment period. If you are interested in commenting on this action, you should do so at this time.

DATES: Written comments must be received on or before March 9, 2001.

ADDRESSES: Written comments on this action should be addressed to Mr. Thomas H. Diggs, Chief, Air Planning Section (6PD-L), at the EPA Region 6 Office listed below. Copies of documents relevant to this action, including the Technical Support Document (TSD) are available for public inspection during normal business hours at the following locations.

Environmental Protection Agency, Region 6, Air Planning Section (6PD-L), 1445 Ross Avenue, Dallas, Texas 75202-2733.

Texas Natural Resource Conservation Commission, Office of Air Quality, 12124 Park 35 Circle, Austin, Texas 78753.

Anyone wanting to examine these documents should make an appointment with the appropriate office at least two working days in advance.

FOR FURTHER INFORMATION CONTACT: Steven Pratt, Air Planning Section (6PD-L), 1445 Ross Avenue, Dallas, Texas 75202-2733. Telephone Number (214) 665-2140, E-Mail Address: pratt.steven@epa.gov.

SUPPLEMENTARY INFORMATION: For additional information, see the direct final rule, which is located in the Rules Section of this Federal Register.

List of Subjects in 40 CFR Part 52

Environmental protection, Air pollution control, Carbon monoxide, Hydrocarbons, Intergovernmental relations, Nitrogen oxides, Ozone, Implementation Plans, Reporting and recordkeeping requirements.

Authority: 42 U.S.C. 7401 et seq.

Dated: January 4, 2001.
Gregg A. Cooke,
Regional Administrator, Region 6.

[FR Doc. 01-1825 Filed 2-6-01; 8:45 am]

BILLING CODE 6560-50-P